DEPARTMENT OF THE INTERIOR

National Park Service

Draft Merced Wild and Scenic River Revised Comprehensive Management Plan and Supplemental Environmental Impact Statement, Yosemite National Park, Tuolumne, Mariposa, and Madera Counties, CA; Notice of Availability

Summary—Pursuant to section 102(2)(c) of the National Environmental Policy Act of 1969 (Pub. L. 91-190, as amended), the Council of Environmental Quality regulations (40 CFR Part 1500), and the Wild and Scenic Rivers Act (as amended, 16 U.S.C. 1271), the National Park Service, Department of the Interior, has prepared the Draft Merced Wild and Scenic River Revised Comprehensive Management Plan and Supplemental Environmental Impact Statement (Draft Revised Merced River Plan/SEIS). It is intended to amend and supplement the Merced Wild and Scenic River Comprehensive Management Plan and Final Environmental Impact Statement (Merced River Plan/FEIS) released in June 2000. The Draft Revised Merced River Plan/SEIS identifies and evaluates four alternatives for guiding management of the Merced Wild and Scenic River in Yosemite National Park. When approved, the plan will serve as a template for all future decisions relating to recreation and land use within Yosemite's 81-mile Merced River corridor. The primary goals of the plan are to ensure the free-flowing condition of the river, along with providing long-term protection and enhancement of what the Wild and Scenic Rivers Act calls the river's “Outstandingly Remarkable Values”—the unique qualities that make the river worthy of special protection.

Purpose and Need for Federal Action—The Merced River Plan is the official document for guiding future management of the main stem and South Fork of the Merced Wild and Scenic River within the jurisdiction of Yosemite National Park. In August 2000, the Merced River Plan/FEIS was approved and signed in a Record of Decision (subsequently revised in November 2000). Shortly after the Record of Decision was signed, the plan became the subject of a lengthy litigation process. In April 2004, the U.S. Court of Appeals for the Ninth Circuit directed the National Park Service (NPS) to prepare a “new or revised” comprehensive management plan that addresses two deficiencies identified in the Court's October 27, 2003 opinion (Friends of Yosemite Valley v. Norton, 348 F.3d 789, 803 9th Cir. 2003). The Court ruled that: (1) The revised plan must implement a user capacity program that presents specific measurable limits on use, and (2) the revised plan must reassess the river corridor boundary in the El Portal Administrative Site based on the location of Outstandingly Remarkable Values. The purpose of the programmatic guidance identified herein is to revise and supplement the Merced River Plan/FEIS and the park's 1980 General Management Plan. This supplemental environmental impact statement represents NPS compliance with the National Environmental Policy Act, as well as parallel compliance with the Wild and Scenic Rivers Act (as amended, 16 U.S.C. 1271) and National Historic Preservation Act.

Proposed Plan and Alternatives—As the proposed Revised Merced River Plan, Alternative 2 (agency preferred alternative) would include all of the elements of the No Action Alternative, with the addition of implementing the Visitor Experience Resource Protection (VERP) user capacity component, along with interim limits on some park facilities; the El Portal segment boundary would be redrawn based on the location of the Outstandingly Remarkable Values identified within a quarter-mile of the river. In addition to this proposed plan, the Draft Revised Merced River Plan/SEIS identifies and analyzes three other alternatives: Alternative 1—No Action; Alternative 3—Quotas by Segment with VERP; and Alternative 4—Quotas by Management Zone with VERP. Alternative 2 has also been deemed to be the “environmentally preferred” alternative.

The No Action Alternative (Alternative 1) represents a baseline on which to compare the three action alternatives. Under this alternative, the Merced River Plan—as signed in the 2000 Record of Decision (and subsequent revision)—would continue to guide management in the river corridor. Application of its management elements (boundaries, classifications, Outstandingly Remarkable Values, management zoning, River Protection Overlay, Section 7 determination process) would continue as presented in the plan. However, implementation of the Visitor Experience Resource Protection (VERP) framework would not be in place and the park would continue managing user capacity under existing programs and policies outlined in the February 2004 User Capacity Program for the Merced Wild and Scenic River Corridor. This program includes continuation of the current wilderness management program and existing Trailhead Quota System. This alternative would implement the narrow boundary for the El Portal segment as described in the selected alternative of the Merced River Plan/FEIS (100-year floodplain or River Protection Overlay [whichever is greater] along with adjacent wetlands).

Alternative 3 would also include all of the elements from the No Action alternative, in addition to a VERP user capacity component (as described in Alternative 2) along with a maximum daily quota for each river segment and an annual visitation cap; the El Portal segment would have the maximum quarter-mile boundary.

Alternative 4 would contain the elements of No Action in addition to a VERP user capacity component (as described in Alternative 2) along with quotas for each river management zone and an annual visitation cap; the El Portal segment boundary would be drawn according to the location of Outstandingly Remarkable Values.

Scoping History—On July 27, 2004, a Notice of Intent to prepare an environmental impact statement was published in the Federal Register initiating a 30-day scoping period—in response to public comment, this scoping period was extended to September 10, 2004. During scoping, a series of public meetings were held. A letter from the Superintendent was sent to over 8,000 interested members of the public on the park's Planning Mailing list, encouraging them to submit ideas, issues, and concerns relating to the scope of this planning effort. In addition, the scoping period and associated public meetings were publicized via regional media, on the park's Web site, through e-mailed notices on the park's electronic newsletter, and on various state-wide online bulletin boards. As a result of outreach, over 100 letters, faxes, and emails were received and considered during the development of this Draft Revised Merced River Plan/SEIS. All written scoping comments, as well as oral comments at public meetings, can be viewed on the park's Web site (http://www.nps.gov/yose/planning). A scoping report is also available.

Comments—Upon its release, the Draft Revised Merced River Plan/SEIS will be mailed directly to those who requested the document in response to a December 2004 direct mail and e-mailed solicitation. While the public will be encouraged to view the document on the park's Web site (http://www.nps.gov/yose/planning), it will be made available in a printed version, as well as on CD ROM. Copies will be available at park headquarters and the main Visitor Center in Yosemite Valley, the Administrative Complex in El Portal, and at local and regional libraries throughout California.

Written comments must be submitted in writing and postmarked no later than 60 days after the Environmental Protection Agency publishes the notice of filing of the Draft Revised Merced River Plan/SEIS in the Federal Register (anticipated to occur in mid-January, 2005; as soon as this date is confirmed it will be announced on the park's Web site). All comments should be addressed to the Superintendent, ATTN: Draft Revised Merced River Plan/SEIS, P.O. Box 577, Yosemite National Park, CA 95389. Also, comments can be e-mailed to yose_planning@nps.gov or faxed to (209) 379-1294. All comments received will be available for public review in the Yosemite Research Library and also may be available on the park's Web site. To request a printed copy or CD ROM, refer to the information above or phone (209) 379-1365.

Individuals submitting comments may request that their name and/or address be withheld from public disclosure, and such requests will be honored to the extent allowable by law. Requests must be stated prominently in the beginning of comments. There also may be circumstances wherein the NPS will withhold a respondent's identity as allowable by law. As always, the National Park Service will make available to public inspection all submissions from organizations or businesses and from persons identifying themselves as representatives or officials of organizations and businesses. Anonymous comments will not be considered.

Public Meetings—In order to facilitate public review and comment on the Draft Revised Merced River Plan/SEIS, the NPS intends to host public meetings in the following California towns and cities: San Francisco, Sacramento, Groveland, Merced, Mammoth, Los Angeles, Fresno, Oakhurst, Mariposa, El Portal, and Yosemite Valley. Meeting dates will be dependent on the publication of this notice in the Federal Register, and will occur after the first 15 days of the comment period and no later than 15 days prior to the comment period closing. A schedule of dates, locations, and times will be announced via a mailing to the park's Planning Mailing List, a news release, through the park's electronic newsletter, and postings on the park's Web site (http://www.nps.gov/yose/planning) and other statewide online bulletin boards.

Participants are encouraged to review the document prior to attending a meeting. Yosemite National Park management and planning team members will attend all sessions to present the Draft Revised Merced River Plan/SEIS, to receive oral and written comments, and to answer questions. All meeting locations will be accessible for disabled persons and a sign language interpreter may be available upon request with prior notice (contact the park as noted above under “Comments”).

Decision Process—Depending on the degree of public interest and response from other agencies and organizations, at this time it is anticipated that the Final Merced Wild and Scenic River Revised Comprehensive Management Plan and Supplemental Environmental Impact Statement (Final Merced River Plan/SEIS) will be completed during June 2005; availability of the document will be duly noted in the Federal Register. Subsequently, notice of an approved Record of Decision would be published in the Federal Register not sooner than 30 days after the final document is distributed. This is expected to occur in mid-August 2005. As a delegated EIS, the official responsible for the decision is the Regional Director, Pacific West Region, National Park Service; the official responsible for implementation is the Superintendent, Yosemite National Park.

Dated: December 14, 2004.
Jonathan B. Jarvis,
Regional Director, Pacific West Region.

[FR Doc. 05-47 Filed 1-3-05; 8:45 am]

BILLING CODE 4312-FY-P